DEPARTMENT OF TRANSPORTATION

Federal Aviation Administration

14 CFR Part 71

[Docket No. FAA-2011-0012; Airspace Docket No. 10-ASO-44]

Amendment of Class D and Class E Airspace; Columbus Lawson AAF, GA

AGENCY: Federal Aviation Administration (FAA), DOT.

ACTION: Final rule.

SUMMARY: This action modifies Class D and Class E airspace at Lawson Army Airfield (AAF), Columbus, GA, by removing the reference to the Columbus Metropolitan Airport Class C airspace area from the description. Controlled airspace at Columbus Metropolitan Airport is being downgraded due to decreased air traffic volume. This action is necessary for the safety and management of air traffic within the National Airspace System. This action also updates the geographic coordinates of Columbus Lawson AAF.

DATES: Effective 0901 UTC, October 20, 2011. The Director of the Federal Register approves this incorporation by reference action under title 1, Code of Federal Regulations, part 51, subject to the annual revision of FAA Order 7400.9 and publication of conforming amendments.

FOR FURTHER INFORMATION CONTACT: John Fornito, Operations Support Group, Eastern Service Center, Federal Aviation Administration, P.O. Box 20636, Atlanta, Georgia 30320; telephone (404) 305-6364.

SUPPLEMENTARY INFORMATION:

History

On May 24, 2011, the FAA published in the Federal Register a notice of proposed rulemaking (NPRM) to modify Class D and E airspace at Lawson Army Airfield (AAF), Columbus, GA by removing the reference to the Columbus Metropolitan Airport Class C airspace area from the description, and modifying the geographic coordinates of Lawson AAF (76 FR 30045) Docket No. FAA-2011-0012. Interested parties were invited to participate in this rulemaking effort by submitting written comments on the proposal to the FAA. No comments were received. Class D and E airspace designations are published in paragraph 5000 and 6002, respectively, of FAA Order 7400.9U dated August 18, 2010, and effective September 15, 2010, which is incorporated by reference in 14 CFR 71.1. The Class D and E airspace designations listed in this document will be published subsequently in the Order.

The Rule

This amendment to Title 14, Code of Federal Regulations (14 CFR) part 71 amends the Class D airspace and Class E airspace designated as surface area at Columbus Lawson AAF, Columbus, GA by removing the reference to the Columbus Metropolitan Airport Class C airspace from the description. The volume of air traffic has decreased at Columbus Metropolitan Airport, therefore, Class C airspace has been removed. The geographic coordinates for the Lawson AAF are being adjusted to coincide with the FAAs aeronautical database. This action is necessary for the safety and management of IFR operations at the airports.

The FAA has determined that this regulation only involves an established body of technical regulations for which frequent and routine amendments are necessary to keep them operationally current, is non-controversial and unlikely to result in adverse or negative comments. It, therefore, (1) Is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, section 106 describes the authority of the FAA Administrator. Subtitle VII, Aviation Programs, describes in more detail the scope of the agency's authority.

This rulemaking is promulgated under the authority described in subtitle VII, part A, subpart I, section 40103. Under that section, the FAA is charged with prescribing regulations to assign the use of airspace necessary to ensure the safety of aircraft and the efficient use of airspace. This regulation is within the scope of that authority as it amends controlled airspace at Columbus Lawson AAF, Columbus, GA.

Lists of Subjects in 14 CFR Part 71

Airspace, Incorporation by reference, Navigation (air).

Adoption of the Amendment

In consideration of the foregoing, the Federal Aviation Administration amends 14 CFR part 71 as follows:

PART 71—DESIGNATION OF CLASS A, B, C, D AND E AIRSPACE AREAS; AIR TRAFFIC SERVICE ROUTES; AND REPORTING POINTS

1. The authority citation for part 71 continues to read as follows:

Authority: 49 U.S.C. 106(g); 40103, 40113, 40120; E.O. 10854, 24 FR 9565, 3 CFR, 1959-1963 Comp., p. 389.

§ 71.1 [Amended]

2. The incorporation by reference in 14 CFR 71.1 of Federal Aviation Administration Order 7400.9U, Airspace Designations and Reporting Points, dated August 18, 2010, effective September 15, 2010, is amended as follows:

Paragraph 5000 Class D Airspace

* * * * *

ASO GA D Columbus Lawson AAF, GA [Amended]

Columbus Lawson AAF, GA

(Lat. 32°19′55″ N., long 84°59′14″ W.)

That airspace extending upward from the surface to and including 2,700 feet MSL within a 5.2-mile radius of Lawson Army Airfield. This Class D airspace area is effective during the specific dates and times established in advance by a Notice to Airmen. The effective date and time will thereafter be continuously published in the Airport/Facility Directory.

Paragraph 6002 Class E Airspace Designated as Surface Areas

* * * * *

ASO GA E2 Columbus Lawson AAF, GA [Amended]

Columbus Lawson AAF, GA

(Lat. 32°19′55″ N., long. 84°59′14″ W.)

Within a 5.2-mile radius of Lawson Army Airfield. This Class E airspace area is effective during the specific dates and times established in advance by a Notice to Airmen. The effective date and time will thereafter be continuously published in the Airport/Facility Directory.

Issued in College Park, Georgia, on July 19, 2011.
Mark D. Ward,
Manager, Operations Support Group, Eastern Service Center, Air Traffic Organization.

[FR Doc. 2011-19170 Filed 8-3-11; 8:45 am]

BILLING CODE 4910-13-P